DEPARTMENT OF COMMERCE

National Oceanic and Atmospheric Administration

[RTID 0648-XF236]

Gulf Fishery Management Council; Public Meetings

AGENCY: National Marine Fisheries Service (NMFS), National Oceanic and Atmospheric Administration (NOAA), Commerce.

ACTION: Notice; public hearing.

SUMMARY: The Gulf Fishery Management Council (Gulf Council) will hold a virtual public hearing to solicit public comments on Shrimp Amendment 19: Federal Shrimp Permit Moratorium in the Gulf.

DATES: The virtual public hearing will take place Tuesday, October 21, 2025 at 6 p.m. EDT at https://attendee.gotowebinar.com/register/5866573382741401696. Written public comments must be received on or before 5 p.m. EDT on October 22, 2025.

ADDRESSES: Please visit the Gulf Council website at www.gulfcouncil.org for meeting materials and webinar registration information.

Meeting addresses: The public hearing will be held virtually.

Council address: Gulf Fishery Management Council, 4107 W Spruce Street, Suite 200, Tampa, FL 33607; telephone: (813) 348-1630.

FOR FURTHER INFORMATION CONTACT: Dr. Matt Freeman; Economist; matt.freeman@gulfcouncil.org, Gulf Fishery Management Council; telephone: (813) 348-1630.

SUPPLEMENTARY INFORMATION: The agenda for the virtual public hearing is as follows: Council staff will begin with a brief presentation on Shrimp Amendment 19 that addresses the expiration of the Federal shrimp permit moratorium in the Gulf. Staff and a Council member will be available to answer any questions, and the public will have the opportunity to provide testimony on the amendment and other related testimony.

Virtual Public Hearing

Tuesday, October 21, 2025, at 6 p.m., EDT; via webinar at https://attendee.gotowebinar.com/register/5866573382741401696.

Visit www.gulfcouncil.org website and click on the “meetings and public hearings” tab for registration information. After registering, you will receive a confirmation email containing information about joining the webinar.

(Authority: 16 U.S.C. 1801 et seq.)

Dated: September 29, 2025.
Becky J. Curtis,
Acting Deputy Director, Office of Sustainable Fisheries, National Marine Fisheries Service.

[FR Doc. 2025-19205 Filed 10-1-25; 8:45 am]

BILLING CODE 3510-22-P